NUCLEAR REGULATORY COMMISSION

[Docket No. NRC-2011-0124]

Agency Information Collection Activities: Submission for the Office of Management and Budget (OMB) Review; Comment Request

AGENCY: Nuclear Regulatory Commission.

ACTION: Notice of the OMB review of information collection and solicitation of public comment.

SUMMARY: The U.S. Nuclear Regulatory Commission (NRC) has recently submitted to OMB for review the following proposal for the collection of information under the provisions of the Paperwork Reduction Act of 1995 (44 U.S.C. chapter 35). The NRC hereby informs potential respondents that an agency may not conduct or sponsor, and that a person is not required to respond to, a collection of information unless it displays a currently valid OMB control number. The NRC published a Federal Register notice with a 60-day comment period on this information collection on July 5, 2011 (76 FR 39132).

1. Type of submission, new, revision, or extension: Extension.

2. The title of the information collection: 48 CFR 20, U.S. Nuclear Regulatory Commission Acquisition Regulation (NRCAR).

3. Current OMB approval number: 3150-0169.

4. The form number if applicable: None.

5. How often the collection is required: On occasion; one time.

6. Who will be required or asked to report: NRC contractors and potential contractors.

7. An estimate of the number of annual responses: 5,425 responses.

8. The estimated number of annual respondents: 2,803 respondents.

9. An estimate of the total number of hours needed annually to complete the requirement or request: 21,579.5 (20,484 reporting plus 1,095.5 recordkeeping).

10. Abstract: The mandatory requirements of the NRCAR implement and supplement the government-wide Federal Acquisition Regulation (FAR), and ensure that the regulations governing the procurement of goods and services within the NRC satisfy the particular needs of the agency. Because of differing statutory authorities among Federal agencies, the FAR permits agencies to issue regulations to implement FAR policies and procedures internally to satisfy the specific need of the agency.

The public may examine and copy for a fee, publicly available documents, including the final supporting statement, at the NRC's Public Document Room, Room O1-F21, One White Flint North, 11555 Rockville Pike, Rockville, Maryland 20852. OMB clearance requests are available at the NRC Web site: http://www.nrc.gov/public-involve/doc-comment/omb/index.html. The document will be available on the NRC home page site for 60 days after the signature date of this notice.

Comments and questions should be directed to the OMB reviewer listed below by October 28, 2011. Comments received after this date will be considered if it is practical to do so, but assurance of consideration cannot be given to comments received after this date.

Chad Whiteman, Desk Officer, Office of Information and Regulatory Affairs (3150-0169), NEOB-10202, Office of Management and Budget, Washington, DC 20503.

Comments can also be e-mailed to CWhiteman@omb.eop.gov or submitted by telephone at 202-395-4718.

The NRC Clearance Officer is Tremaine Donnell, 301-415-6258.

Dated at Rockville, Maryland this 22nd day of September 2011.
For the Nuclear Regulatory Commission.
Tremaine Donnell,
NRC Clearance Officer, Office of Information Services.

[FR Doc. 2011-24843 Filed 9-27-11; 8:45 am]

BILLING CODE 7590-01-P